DEPARTMENT OF COMMERCE

National Oceanic and Atmospheric Administration

Proposed Information Collection; Comment Request; Marine Mammal Health and Stranding Response Program, Level A Stranding Report, Rehabilitation Disposition Data Sheet, and Human Interaction Form

AGENCY: National Oceanic and Atmospheric Administration (NOAA), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written or on-line comments must be submitted on or before February 11, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Stephen Manley, Office of Protected Resources, 1315 East-West Highway, #13604, Silver Spring, MD 20910, (301) 427-8476 or stephen.manley@noaa.gov.

SUPPLEMENTARY INFORMATION:

I. Abstract

This request is for revision and extension of this previously approved data collection.

Under the Marine Mammal Protection Act (MMPA), the Secretary of Commerce (Secretary), who has delegated responsibility under this Act to the National Oceanic and Atmospheric Administration (NOAA) Assistant Administrator for Fisheries, is charged with the protection and management of marine mammals and is responsible for collecting information on marine mammal strandings, which will be compiled and analyzed, by region, to monitor species, numbers, conditions, and causes of illnesses and deaths of stranded animals. The Secretary is also responsible for collection of information on other life history and reference level data, including marine mammal tissue analyses, that would allow comparison of the causes of illness and deaths in stranded marine mammals by physical, chemical, and biological environmental parameters.

In addition, determinations must be made on the sustainability of population stocks, on the impact of fisheries and other human activities on marine mammals and endangered species, and on the health of marine mammals and related environmental considerations. NOAA's National Marine Fisheries Service (NMFS) has the responsibility to carry out these mandates. Section 402(b) of the MMPA (16 U.S.C. 1421a) requires the Secretary to collect and update information on strandings. It further provides that the Secretary shall compile and analyze, by region, the species, numbers, conditions, and causes of illnesses and deaths in stranded marine mammals. Section 404(a) of the MMPA (16 U.S.C. 1421c) mandates that the Secretary respond to unusual marine mammal mortality events. Without a historical baseline provided by marine mammal information collected from strandings, detection of such events could be difficult and the investigation could be impeded. Section 401(b) of the MMPA (16 U.S.C. 1421) requires NMFS to facilitate the collection and dissemination of reference data on the health of marine mammal populations in the wild and to correlate health with physical, chemical, and biological environmental parameters. In order to perform this function, NMFS must standardize data collection protocols for health and correlations. Data and samples collected from stranded animals are a critical part of the implementation of this mandate of the MMPA.

Specifically, the data from the Marine Mammal Stranding Report (MMSR) forms provide NMFS with information on the morphology, life history, biology, general health, health and stranding trends, causes of mortality, and distribution of marine mammal species. These data provide information which may help in making assessments on the status of population stocks. Recording data on gross mortalities may serve as an indicator that a particular population is impacted, threatened or at increased risk, and when provided in a timely manner, aid in dynamic management practices. Stranding data also provide an important baseline for detecting and monitoring the impacts of environmental phenomena, such as El Niño and Harmful Algal Blooms (HABs). Minor edits to the current version of the form are proposed, including beginning to collect live, entangled large whale data in this data collection and streamlining the confidence codes.

The Marine Mammal Rehabilitation Disposition Report (MMRDR) provides NMFS with information on the disposition of animals brought in for rehabilitation, the success of medical treatment, and the number of animals released. This information will assist the Agency in tracking marine mammals that move into captive display and in the monitoring of rehabilitation and release. The data will also be used to assess the burden on stranding network centers. This form will be filled out only in the case of live-stranded marine mammals. The form will be required from rehabilitation centers in all five NMFS Regions. Each of the NMFS regions approves and issues a Letter of Agreement (LOA) or other form of agreement to marine mammal rehabilitation centers under § 112(c) of the MMPA, which allows the Secretary to enter into agreements in order to fulfill the general purposes of the Act, and under § 403 of the MMPA, which provides specific authority to enter into such stranding response agreements. These data will be monitored as part of the Rehabilitation Facilities Inspection (RFI) program. No changes are proposed to this form.

The Human Interaction Data Sheet will provide NMFS with consistent and detailed information on signs of human interaction in stranded marine mammals. This form also includes a subjective section that allows the examiner to evaluate the likelihood that human interaction contributed to the stranding of the animal. This information will assist the Agency in tracking resource conflicts and will provide a solid scientific foundation for conservation and management of marine mammals. With a better understanding of interactions, appropriate measures can be taken to resolve conflicts and stranding data are the best source of information regarding the occurrence of different types of human interaction. No changes are proposed for this form.

II. Method of Collection

Paper applications, electronic reports, and telephone calls are required from participants, and methods of submittal include internet through the NMFS National Marine Mammal Stranding Database; facsimile transmission of paper forms; or mailed copies of forms.

III. Data

OMB Number: 0648-0178.

Form Number: None.

Type of Review: Regular submission (revision and extension of a current information collection).

Affected Public: State governments; not-for-profit institutions; business or other for-profits organizations.

Estimated Number of Respondents: 400.

Estimated Time per Response: 30 minutes for Stranding Reports and Rehabilitation Disposition Forms; 45 minutes for the Human Interaction Data Sheet.

Estimated Total Annual Burden Hours: 14,600.

Estimated Total Annual Cost to Public: $203.45.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2019-26829 Filed 12-12-19; 8:45 am]

BILLING CODE 3510-22-P